DEPARTMENT OF AGRICULTURE

Rural Utilities Service

Dry Fork Station and Hughes Transmission Line

AGENCY: Rural Utilities Service, USDA.

ACTION: Notice of Extension of Public Comment Period, Draft Environmental Impact Statement, Dry Fork Station and Hughes Transmission Line, Wyoming.

SUMMARY: Notice is hereby given that the Rural Utilities Service (RUS) is extending the public comment period for the Draft Environmental Impact Statement (EIS) for the Dry Fork Station and Hughes Transmission Line. The Draft EIS was prepared pursuant to the National Environmental Policy Act of 1969 (NEPA) (U.S.C. 4231, et seq.) in accordance with the Council on Environmental Quality (CEQ) regulations for implementing the procedural provisions of NEPA (40 CFR parts 1500 through 1508) and RUS regulations (7 CFR part 1794).

The Draft EIS is to evaluate the potential environmental impacts of and alternatives to the Basin Electric Power Cooperative, Inc. (Basin Electric) application for a loan guarantee to construct a generation facility referred to as the Dry Fork Station, consisting of a single maximum net 385 Megawatt (MW) unit, at a site near Gillette, Wyoming, along with other proposed pollution controls collectively known as Best Available Control Technology (BACT). In addition, Basin Electric also proposes to construct and operate 136 miles of 230 kilovolt (kV) transmission line in Campbell and Sheridan counties, referred to as the Hughes Transmission Project. Basin Electric is not, however, requesting a loan guarantee from RUS for this action. However, the Hughes Transmission Project is evaluated as a connected action for this EIS because the Dry Fork Station would interconnect with it if the Station is built.

The Draft EIS was filed with the U.S. Environmental Protection Agency on August 24, 2007. Requests for extension of public comment periods may be honored per 40 CFR 1506.10. The initial 45-day public comment period was to end on October 15, 2007. With the 30-day extension, the new deadline for public comments is now November 19, 2007.

DATES: Written comments on this Draft EIS will be accepted on or before November 19, 2007.

Address for Further Information: To send comments or for further information, contact: Richard Fristik, USDA, Rural Development Utilities Programs, 1400 Independence Avenue, SW., Stop 1571, Room 2240, Washington, DC 20250-1571, telephone (202) 720-5093, fax (202) 690-0649, or e-mail: Richard.Fristik@wdc.usda.gov.

A copy of the Draft EIS can be obtained or viewed online at http://www.usda.gov/rus/water/ees/deis-dfs.htm. The files are in a Portable Document Format (.pdf); in order to review or print the document, users need to obtain a free copy of Acrobat® Reader® (© 2003 Adobe Systems Incorporated). The Acrobat® Reader® can be obtained from http://www.adobe.com/prodindex/acrobat/readstep.html.

Copies of the Draft EIS will also be available for public review during normal business hours at the following locations:

Campbell County Public Library, 2101 South 4J Road, Gillette, WY 82718-5205, Phone: (307) 687-0009, FAX: (307) 686-4009

Wright Branch Library—Campbell County Public Library System, 305 Wright Boulevard, Wright, WY 82732

Sheridan County Fulmer Public Library, 35 W. Alger Street, Sheridan, WY 82801

Clearmont Branch Library—Sheridan County Public Library, 1240 Front Street, Clearmont, WY 82835, Phone: (307) 758-4331

Crook County Library, 414 Main Street, Sundance, WY 82729

Moorcroft Public Library—Crook County Library System, 105 East Converse, Moorcroft, WY 82721

Johnson County Library, 171 North Adams, Buffalo, WY 82834

Dated: October 12, 2007.
Mark S. Plank,
Director, Engineering and Environmental Staff, USDA Rural Development, Utilities Programs.

[FR Doc. E7-20514 Filed 10-17-07; 8:45 am]

BILLING CODE 3410-15-P